DEPARTMENT OF HOMELAND SECURITY

United States Immigration and Customs Enforcement

Agency Information Collection Activities: New Information Collection; Comment Request

ACTION: 30-Day Notice of New Information Collection for Review; Bond Worksheet, OMB No. 1653-NEW.

The Department of Homeland Security, U.S. Immigration and Customs Enforcement (ICE), will submit the following information collection request for review and clearance in accordance with the Paperwork Reduction Act of 1995. The information collection was previously published in the Federal Register on August 12, 2010 Vol. 75 No. 155 pp. 48984, allowing for a 60 day public comment period. No comments were received on this information collection.

The purpose of this notice is to allow an additional 30 days for public comments. Comments are encouraged and will be accepted for thirty days December 6, 2010.

Interested persons are invited to submit written comments on the proposed information collection to the Office of Information and Regulatory Affairs, Office of Management and Budget. Comments should be addressed to OMB Desk Officer, for United States Immigration and Customs Enforcement, Department of Homeland Security, and sent via electronic mail to oira_submission@omb.eop.gov or faxed to (202) 395-5806.

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection:

(1) Type of Information Collection: New information collection.

(2) Title of the Form/Collection: Bond Worksheet.

(3) Agency form number, if any, and the applicable component of the Department of Homeland Security sponsoring the collection: Form 71-022. U.S. Immigration and Customs Enforcement.

(4) Affected public who will be asked or required to respond, as well as a brief abstract: Primary: Individuals or households. The data collected on this worksheet is used by ICE for the purposes of ensuring the person or company posting a bond provides accurate written data for review and processing by ICE. It is a precursor for preparing the I-352 (Immigration Bond).

(5) An estimate of the total number of respondents and the amount of time estimated for an average respondent to respond: 25,000 responses at 15 minutes (0.25 hours) per response.

(6) An estimate of the total public burden (in hours) associated with the collection: 6,250 annual burden hours.

Requests for a copy of the proposed information collection instrument, with instructions; or inquiries for additional information should be sent via e-mail to forms.ice@dhs.gov with “ICE Form 71-022” in the subject line.

Dated: October 21, 2010.
Joseph M. Gerhart,
Chief, Records Management Branch, U.S. Immigration and Customs Enforcement, Department of Homeland Security.

[FR Doc. 2010-27934 Filed 11-4-10; 8:45 am]

BILLING CODE 9111-28-P